DEPARTMENT OF LABOR

Employment and Training Administration

[TA-W-51,937 and TA-W-51,937A]

Magnequench UG, Valparaiso, Indiana; Including an Employee of Magnequench UG, Valparaiso, Indiana, Located in Morgan Hills, CA; Amended Notice of Certification Regarding Eligibility To Apply for Worker Adjustment Assistance

In accordance with section 223 of the Trade Act of 1974 (19 U.S.C. 2273) the Department of Labor issued a Notice of Certification Regarding Eligibility to Apply for Worker Adjustment Assistance on July 16, 2003, applicable to workers of Magnequench UG, Valparaiso, Indiana. The notice was published in the Federal Register on August 5, 2003 (68 FR 46231).

At the request of the State agency, the Department reviewed the certification for workers of the subject firm. New information shows that a worker separation occurred involving an employee of the Valparaiso, Indiana facility of Magnequench UG who was located in Morgan Hills, California. Mr. James Place provided sales support services for the production of permanent magnets at the Valparaiso, Indiana location of the subject firm.

Based on these findings, the Department is amending this certification to include an employee of the Valparaiso, Indiana facility of Magnequench UG located in Morgan Hills, California. The intent of the Department's certification is to include all workers of Magnequench UG, Valparaiso, Indiana, who were adversely affected by a shift in production to Mexico.

The amended notice applicable to TA-W-51,937 is hereby issued as follows:

All workers of Magnequench UG, Valparaiso, Indiana (TA-W-51,937), including an employee of Magnequench UG, Valparaiso, Indiana, located in Morgan Hills, California (TA-W-51,937A), who became totally or partially separated from employment on or after May 30, 2002, through July 16, 2005 are eligible to apply for adjustment assistance under Section 223 of the Trade Act of 1974.

Signed at Washington, DC, this 28th day of March 2005.
Elliott S. Kushner,
Certifying Officer, Division of Trade Adjustment Assistance.

[FR Doc. E5-1523 Filed 4-4-05; 8:45 am]

BILLING CODE 4510-30-P